DEPARTMENT OF DEFENSE

Department of the Navy

Extension of Nominations for Membership on the Ocean Research Advisory Panel

AGENCY: Department of the Navy, DoD.

ACTION: Extension of Notice of request for nominations.

SUMMARY: The Ocean Research Advisory Panel (ORAP) is soliciting nominations for eight new members.

DATES: Nominations should be submitted no later than 5:00pm EST, March 15, 2013.

ADDRESSES: Nominations should be submitted via email to CDR Stephen D. Martin, US Navy, at stephen.d.martin@navy.mil.

Contact Information: Office of Naval Research, 875 North Randolph Street Suite 1425, ATTN: ONR Code 322B Room 1075, Arlington, VA 22203, telephone 703-696-4395.

FOR FURTHER INFORMATION CONTACT: Dr. Joan S. Cleveland, Office of Naval Research, 875 North Randolph Street Suite 1425, Arlington, VA 22203-1995, telephone 703-696-4532; or CDR Stephen D. Martin, telephone 703-696-4395.

SUPPLEMENTARY INFORMATION: ORAP is a statutorily mandated federal advisory committee that provides senior advice to the National Ocean Research Leadership Council (NORLC), the governing body of the National Oceanographic Partnership Program (NOPP). Under the National Ocean Policy, the National Ocean Council (NOC) Deputy-level Committee has assumed the responsibilities of the NORLC. ORAP provides independent advice and guidance to the NOC. NOC routinely provides guidance and direction on the areas for which it seeks advice and recommendations from ORAP. ORAP also advises on selection of projects and allocation of funds for NOPP.

Panel Member Duties and Responsibilities: Members of the panel represent the National Academy of Sciences, the National Academy of Engineering, the Institute of Medicine, ocean industries, state governments, academia and others, including individuals who are eminent in the fields of marine science, marine policy, or related fields, including ocean resource management. Members are appointed annually and may serve a term of four years, and are not normally compensated except for travel expenses and per diem while away from their homes in performance of services for the panel.

The panel meets for at least one two-day public meeting per year, but possibly meets three times per year, on dates agreeable by the panel members; attendance at meetings is expected. Intercessional activities not involving formal decisions or recommendations may be carried out electronically, and the panel may establish sub-panels composed of less than full membership to carry out panel duties.

Nominations: Any interested person or organization may nominate qualified individuals (including one's self) for membership on the panel. Nominated individuals should have extensive expertise and experience in the field of ocean science and/or ocean resource management. Nominations should be identified by name, occupation, position, address, telephone number, email address, and a brief paragraph describing their qualifications in the context of the ORAP Charter, that can be found on-line at (http://www.nopp.org/committees/orap/), and ability to represent a stakeholder group. Nominations should also include a résumé or curriculum vitae.

Process and Deadline for Submitting Nominations: Submit nominations via email to CDR Stephen Martin (stephen.d.martin@navy.mil) no later than 5:00pm EST, March 15, 2013. ORAP nomination committees under the direction of the National Ocean Council will evaluate the nominees identified by respondents to this Federal Register Notice and down-select to a short-list of available candidates (150% of the available open positions for consideration). These selected candidates will be required to fill-out the “Confidential Financial Disclosure Report” OGE form 450. This confidential form will allow Government officials to determine whether there is a statutory conflict between a person's public responsibilities and private interests and activities, or the appearance of a lack of impartiality, as defined by federal regulation. The form and additional guidance may be viewed at: (http://www.oge.gov/Financial-Disclosure/Confidential-Financial-Disclosure-450/Confidential-Financial-Disclosure/).

In accordance with section 7903 of title 10, United States Code, the short-list of candidates will then be submitted for approval by the Secretaries of the Navy and Defense who are the appointing officials for their consideration. At this time, eight openings are envisioned on the Panel and the final set of nominees will seek to balance a range of geographic and sector representation and experience. Applicants must be US citizens. Successful nominees must provide detailed information required to evaluate potential conflicts of interest. Typically the time required to achieve the final appointments to the Panel is 10-12 months. Members of the Panel serve as Special Government Employees who volunteer their time but whose travel costs for Panel business is provided by the Government. The ORAP is a Federal Advisory Committee and operates under the principles of open and transparent development of advice to the government.

The selection of new panel members will be based on the nominee's qualifications to provide senior advice to the NOC; the availability of the potential panel member to fully participate in the panel meetings; absence of any conflict of interest or appearance of lack of impartiality, and lack of bias; the candidates' areas of expertise and professional qualifications; and achieving an overall balance of different perspectives, geographic representation, and expertise on the panel.

Dated: February 5, 2013.
C.K. Chiappetta,
Lieutenant Commander, Office of the Judge Advocate General U.S. Navy, Federal Register Liaison Officer.

[FR Doc. 2013-03165 Filed 2-11-13; 8:45 am]

BILLING CODE 3810-FF-P